DEPARTMENT OF ENERGY

Federal Energy Regulatory Commission

[Docket No. ER02-2014-006 and ER02-2014-011]

Entergy Services, Inc.; Notice of Technical Conference

October 21, 2003.

In an order issued March 13, 2003, in Docket No. ER02-2014-006 (102 FERC ¶ 61,281), the Commission required Entergy Services, Inc. (Entergy) to file with the Commission, on a monthly basis, certain information related to the calculation of Generator Operator Limits (GOL) values. Those monthly data submissions have been filed in Docket No. ER02-2014-011. The March 13, 2003 order also required the Commission's staff to convene a technical conference to evaluate the market implications of the GOL process.

Take notice that a technical conference will be held at 10 a.m., on November 6, 2003, for the purpose of reviewing the monthly data submissions in Docket No. ER02-2014-011. This conference is intended to be a working session focused solely on gaining an understanding of the data provided by Entergy. It is not intended to discuss the merits or market implications of the GOL process itself. Entergy should be prepared to demonstrate how the PSSE/PTI loadflow program is executed and the sequence used to calculate local GOLs for an example area. Additionally, Entergy should prepare a demonstration of an ATC calculation using data from its latest submittal using the PSSE/PTI loadflow software. There will be a subsequent technical conference to evaluate the GOL process. The date of that technical conference will be announced in a subsequent notice.

This conference will be held in a room to be announced at a later date at the Federal Energy Regulatory Commission, 888 First Street, NE., Washington, DC 20426. Parties that will participate by phone should contact Mark Gratchen at (202) 502-6274 no later than 12 p.m., November 5, 2003.

Magalie R. Salas,
Secretary.

[FR Doc. E3-00120 Filed 10-27-03; 8:45 am]

BILLING CODE 6717-01-P